CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps State Commission Support Grant Application Instructions to the Office of Management and Budget (OMB) for review and approval in accordance with the Paperwork Reduction Act of 1995, Public Law 104-13, (44 U.S.C. Chapter 35). Copies of this ICR, with applicable supporting documentation, may be obtained by calling the Corporation for National and Community Service, Mr. James Stone at 202-606-6885 or via email jstone@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on August 27, 2013. This comment period ended October 28, 2013. Six entities provided comments. Individual comments and the disposition of each are addressed below.

Two commenters focused on several aspects of how performance of state service commissions will be assessed. One commenter asked how progress toward state service plan objectives by commissions will be assessed. CNCS will expect commissions to report annually the progress they are making toward outcomes they identify in the theory of change logic model they submit with the Commission Support Grant Application. In addition, CNCS believes that capacity building is a critical activity shared by all state service commissions. Given this capacity building role, CNCS will require commissions to measure their performance against at least one aligned set of capacity building National Performance Measures.

Two commenters stated that evaluation by CNCS would be a more effective mechanism for commission assessment than using performance measures or assessing accomplishment against a theory of change logic model. One commenter specifically mentioned resurrecting the State Administrative Standards project as a model of this type of evaluation. CNCS agrees that periodic inspection and evaluation can be effective ways to assess the impact of a project, verify compliance and confirm the accuracy of reported values. CNCS will continue to conduct risk-based monitoring site visits to ensure program compliance and verify performance accomplishments. CNCS also believes that all grantees, including commissions, must have ways of regularly assessing their performance and reporting their accomplishments. Because a theory of change logic model allows performance and accomplishments to be assessed within a consistent and well-understood framework, CNCS will require state service commissions to submit a theory of change logic model and to select at least one aligned set of capacity building national performance measures as the basis for reporting on their accomplishments.

One commenter expressed the opinion that better measures of value for a state service commission include the number of leveraged volunteers, geographic coverage of programming, compliance of subgrantees, and program development and growth. CNCS agrees with the commenter about the importance of these measures and intends to review these values in any assessment of state service commissions. CNCS expects commissions to report on these values in periodic progress reports rather than in the application for funding. CNCS staff has listened to state commissions that have expressed a desire to have a better method to capture the full value of a state commission's strategic efforts to address the critical needs of the state. Allowing commissions to articulate their priorities through a theory of change logic model is intended to give commissions the flexibility to communicate and define the intensions they have for national service in their state. And it also gives commissions a measure of control in how they may be assessed to reflect differences across state priorities.

One commenter expressed a desire that CNCS take a more consultative approach with commissions to create better methods to capture the value of state commissions and their contribution to national service. CNCS looks forward to receiving input from state commissions and will expand ways to collaborate to improve the way commission performance is assessed. To that end, the development of commission-appropriate national performance measures is especially important. CNCS expects that states will select applicant-determined measures that will best capture aspects of commission outputs and outcomes as we move forward. CNCS anticipates that, through collaboration, these applicant-determined measures could be the basis of commission-specific national performance measures in the future.

One commenter expressed the opinion that the requirement to submit an application, a theory of change logic model, and performance measures, runs counter to Section 178(f) of the Serve America Act. This particular statutory provision gives the agency the option of waiving some types of administrative requirements otherwise applicable to grants made to states. However, application, reporting and accountability are critical requirements when federal grant funds are provided for a particular purpose. And grant makers benefit from an environment of accountability. CNCS believes that state service commissions have a strong story to share with all types of funders and believes commissions can report on results achieved as a result of receiving these funds. Commissions have the flexibility of selecting their own performance measures (applicant determined measures) in addition to selecting a set of capacity building national measures. Having data that demonstrates the effectiveness of commissions enables CNCS to articulate the value of federal investment in commissions. CNCS believes that all grantees, including state service commissions, should be able to demonstrate that granted federal funds are effectively used for allowable purposes. Periodically reporting on accomplishments is vital to demonstrating the effective use of grant funds.

One commenter expressed concern about linking state service commission performance on the Commission Support Grant to eligibility for competitive program grants. The organizational capability selection criterion for competitive grants has always included a commission's capacity to manage competitive grant resources as a factor in making AmeriCorps program grant award decisions. Information collected from the Commission Support Grant application as well as what may be included in periodic progress reports for that grant informs the CNCS assessment of a commission's capacity. In these application instructions, CNCS is not proposing any change to this capacity assessment.

One commenter noted that CNCS was requesting information requested in previous applications or that might have been collected through monitoring activities including how commission monitoring and financial policies are being implemented. This commenter recommended that CNCS should only ask whether or not there have been any changes. CNCS agrees and expects state service commissions to respond to the questions under the three narrative application sections: Grant Outreach and Selection; Compliance and Performance; and Collaboration and Sustainability only at the beginning of each grant cycle or when the commission makes changes. CNCS does not expect a state service commission to rewrite these application sections when they apply for continuation funding in the succeeding years unless necessary to reflect a change in commission policy, procedure or operations. The applicant responses made in the initial application are carried forward to succeeding applications and only those sections needing modification are expected to be changed.

One commenter asserted that adding a capacity building performance measure and requiring the submission of a theory of change logic model will incompletely capture the value of state service commissions while increasing the time burden on commission grantees to compile the requested information. CNCS acknowledges that the level of burden will be higher for some state service commissions and has increased the burden estimate. CNCS believes the inclusion of the theory of change logic model will better capture the value of commissions because commissions will have a way to articulate their aspirations and accomplishments on matters other than the management of subgrantee program awards. CNCS also believes the inclusion of an aligned set of capacity building national performance measures will allow commissions to report on the important accomplishments they all make in this area.

Two commenters expressed concern that the capacity building measure is the only measure of success or accomplishment for a state service commission. CNCS recognizes that state service commission missions span a wide variety of responsibilities and vary widely from state to state. CNCS also believes that all commissions are engaged in capacity building activities related to outreach to new grantees, the training and support of subgrantees in their portfolio, the collaborative activities they undertake with their stakeholders, and the facilitation of volunteerism to address state priorities. Therefore CNCS believes a capacity building measure is appropriate to document these efforts not otherwise being reported under AmeriCorps program subgrants.

CNCS encourages state service commissions to develop other measures to capture their accomplishments if they constitute a significant part of their mission. CNCS envisions state service commissions collaborating in the development of other standardized measures that might capture other important aspects of their operations. If there is sufficient consensus these measures could be included among the national performance measures in the future.

One commenter expressed concern that instituting performance measures and a theory of change logic model may restrict programming efforts and limit innovation in addressing the needs in the state. One other commenter stated the capacity building measure was unnecessary because the state service plan already requires measurable goals and outcomes for national service programs in the state. The inclusion of the theory of change logic model and an aligned set of national capacity building performance measures is not intended by CNCS to restrict programming efforts. State service commissions, in collaboration with their stakeholders, determine the national service priorities in the respective states. The intent of the theory of change logic model is to have commissions condense the critical priorities of their state service plan in a concise standardized format and allow them to articulate these priorities to CNCS. Commissions should be able to use the measurable goals and outcomes they have included in their state service plan to inform their theory of change logic model to include with their Commission Support Grant application.

One commenter expressed concern regarding the use of the percentage of programs meeting performance measures as an indicator for commission support grant accomplishment. CNCS uses a wide variety of compliance and performance information from its data systems to inform the assessment of the accomplishments of state service commissions. Meeting, partially meeting, on-track to meet, or not meeting performance measure targets are of factors that CNCS considers in assessing Commission Support Grant accomplishment. The application instructions have been amended to indicate that CNCS uses the progress of programs toward meeting performance measures to better capture how this information is used.

Two commenters questioned the need for a performance measure for the Commission Support Grant. Another commenter stated CNCS should not impose a performance measure on the Commission Support Grant because Section 179 (k) of the National and Community Service Act limits performance measures to national service programs. That statutory provision requires performance measurement of national service programs, but does not prohibit performance measurement of other CNCS grants. CNCS supports a culture of accountability. It is in the best interest of CNCS and state service commissions to measure accomplishment and have performance measure information available to make the best case that money spent on and by state service commissions is money well spent; performance measurement is one way to demonstrate that.

As the Comptroller General testified to Congress on May 22, 2013: “Performance measurement, because of its ongoing nature, can serve as an early warning system to management and a vehicle for improving accountability to the public. To help ensure that their performance information will be both useful and used by decision makers, agencies must consider the differing information of various users—including those in Congress.”

One commenter requested additional clarity regarding the definition of community and private sector resources as indicated in the inputs section of the theory of change logic model and specifically whether this includes state funds. CNCS has amended the application to clarify the intent is to capture all resources including those from the State, private funders or from Federal sources. The purpose is not to document sources of funding but the magnitude of resource commitment by the commission in addressing the community need and the strategies intended to be implemented by the commission.

One person expressed a desire for examples and additional guidance on CNCS's expectations for the theory of change logic model. CNCS intends to provide technical assistance prior to the deadline for submission to assist commissions prepare their theory of change logic model and performance measures. CNCS expects to include examples at that time.

One commenter stated the narrative questions are narrowly focused on AmeriCorps and do not allow commissions to articulate the breadth of their operations. CNCS recognizes that commission missions vary from state to state; however, all commissions are engaged in managing and overseeing AmeriCorps program grants. CNCS intends the questions provided in the guidance to be minimum starting points and not a specific limit on what may be included in state commission applications. If an activity is included in the state service plan and the commission is dedicating Commission Support Grant resources to that effort, it should be reflected in the commission's application.

One commenter suggested that CNCS adopt a single open narrative instead of three-sections as proposed for 2014. CNCS considered a single narrative section but decided that there were efficiency gains by being able to separately process information related to the distinct outreach and selection, compliance and performance, and collaboration and sustainability sections.

Description: CNCS is seeking approval of the AmeriCorps State Commission Application Instructions. State service commissions will respond to the questions included in this Information Collection Request in order to report on their use of federal funds and progress against their annual plan.

Type of Review: Reinstatement.

Agency: Corporation for National and Community Service.

Title: AmeriCorps State Commission Support Grant Application Instructions.

OMB Number: 3045-0099.

Agency Number: None.

Affected Public: State service commissions.

Total Respondents: 54.

Frequency: Annually.

Average Time Per Response: 37 hours.

Estimated Total Burden Hours: 1,998 hours.

Total Burden Cost (capital/startup): None.

Total Burden Cost (operating/maintenance): None.

Dated: March 26, 2014.
Bill Basl,
Director, AmeriCorps State and National.

[FR Doc. 2014-07276 Filed 3-31-14; 8:45 am]

BILLING CODE 6050-28-P